NATIONAL INDIAN GAMING COMMISSION

25 CFR Part 542

RIN 3141-AA24

Minimum Internal Control Standards

AGENCY: National Indian Gaming Commission.

ACTION: Notice of certification of no significant impact under the Regulatory Flexibility Act; request for comments.

SUMMARY: The National Indian Gaming Commission (Commission) is reopening the comment period on our proposed revisions to the Minimum Internal Control Standards, 66 Fed. Reg. 66500 (December 26, 2001) for the limited purpose of giving small entities an opportunity to comment on the Commission's certification that the proposed revisions will not have a significant economic impact on them.

DATES: Comments must be received on or before May 23, 2002.

ADDRESSES: Mail comments to: Comments on Regulatory Flexibility Act on MICS, National Indian Gaming Commission, 1441 L St., NW, Suite 9100, Washington, D.C. 20005, Attn.: Michele F. Mitchell. Comments and requests may also be sent by facsimile to 202-632-7066.

FOR FURTHER INFORMATION CONTACT: Michele F. Mitchell, at 202/632-7003 or, by fax, at 202/632-7066 (these are not toll-free numbers).

SUPPLEMENTARY INFORMATION: The Commission published proposed revisions to its existing Minimum Internal Control Standards on December 26, 2001. 66 FR 66500. The Commission received numerous comments on the proposed rule. As a result of one of the comments received, the Commission determined that certain Indian gaming operations, if they meet specific definitional criteria, may qualify as “small entities,” under the Regulatory Flexibility Act (RFA). 5 U.S.C. 601(3).

Section 603 of the RFA, requires agencies to prepare an analysis describing the impact of proposed rules on small entities. In the alternative, if an agency determines that its rule will not have a significant impact on a substantial number of small entities, it may certify to this determination and an analysis is not required. (5 U.S.C. 605(b)).

There are approximately 315 Indian gaming operations across the country. We estimate that approximately 100 of the operations have gross revenues of less than $5 million. Of these, approximately 50 operations have gross revenues of under $1 million. Since the proposed revisions will not apply to gaming operations with gross revenues under $1 million, only 50 small operations may be affected.

The proposed rule will not have a significant economic affect on these operations because gaming operations must have internal controls to protect their assets. The costs involved in implementing these controls are part of the regular business costs incurred by such an operation.

The Commission's regulations require tribes to adopt minimum standards, below which, the assets of the gaming operation would be placed at an unacceptable risk of loss. We believe that many Indian gaming operations have already implemented internal control standards which are more stringent than those contained in these regulations.

Under the proposed revisions, small gaming operations grossing under $1 million are exempted from MICS compliance. Tier A facilities (those with gross revenues between $1 and $5 million) are subject to the yearly requirement that independent certified public accountant testing occur. The purpose of this testing is to measure the gaming operation's compliance with the tribe's minimum internal control standards. The cost of compliance with this requirement for a small gaming operation is estimated at between $3,000 and $5,000. The cost of this report is minimal and does not create a significant economic effect on gaming operations. What little impact exists is further offset because other regulations require a yearly independent financial audit that can be conducted at the same time. The results of the MICS audit are used by Commission and the tribes to measure compliance with the standards. For these reasons, the Commission has concluded that the proposed rule will not have a significant economic impact on those small entities subject to the rule.

If your gaming operation qualifies as a small entity and you would like to comment on the Commission's conclusions, please submit a comment explaining how and to what degree these proposed revisions affect you and the extent of the economic impact on your business. The Commission will consider any comments received prior to issuing a final rule. Comments addressing the substantive provisions of the proposed revisions to 25 CFR part 542 will not be considered at this time.

The Commission will provide this certification to the Chief Counsel for Advocacy of the Small Business Administration as required by 5 U.S.C. 605(b).

Dated: April 17, 2002.
Montie R. Deer,
Chairman.
Elizabeth L. Homer,
Vice Chair.

Teresa E. Poust,
Commissioner.

[FR Doc. 02-9861 Filed 4-22-02; 8:45 am]

BILLING CODE 7565-01-P